DEPARTMENT OF AGRICULTURE

Animal and Plant Health Inspection Service

[Docket No. APHIS-2013-0097]

Notice of Availability of a Draft Framework for Implementing the United States-Canada Foreign Animal Disease Zoning Arrangement

AGENCY: Animal and Plant Health Inspection Service, USDA.

ACTION: Notice of availability and request for comments.

SUMMARY: The Animal and Plant Health Inspection Service is making available for public comment a draft framework for implementing and maintaining a foreign animal disease zoning arrangement between the United States and Canada. The draft framework provides an operational plan for the two countries to recognize each other's decisions to control a highly contagious foreign animal disease outbreak through zoning. The draft framework also establishes a structure for maintaining the arrangement over time and strategies for engaging governmental and non-governmental stakeholders in any actions taken under the arrangement, including planning and preparedness. This zoning arrangement will facilitate continued trade between disease-free areas of the United States and Canada while safeguarding animal health in both countries.

DATES: We will consider all comments that we receive on or before July 14, 2014.

ADDRESSES: You may submit comments by either of the following methods:

• Federal eRulemaking Portal: Go to http://www.regulations.gov/#!documentDetail;D=APHIS-2013-0097-0001.

• Postal Mail/Commercial Delivery: Send your comment to Docket No. APHIS-2013-0097, Regulatory Analysis and Development, PPD, APHIS, Station 3A-03.8, 4700 River Road, Unit 118, Riverdale, MD 20737-1238.

Supporting documents and any comments we receive on this docket may be viewed at http://www.regulations.gov/#!docketDetail;D=APHIS-2013-0097 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Kelly Rhodes, Regionalization Evaluation Services, National Import Export Services, VS, APHIS, USDA, 4700 River Road, Unit 38, Riverdale, MD 20737-1231; kelly.rhodes@aphis.usda.gov; (301) 851-3315.

SUPPLEMENTARY INFORMATION:

Background

In October 2012, the United States Department of Agriculture (USDA) and the Canadian Food Inspection Agency (CFIA) jointly agreed to establish a foreign animal disease (FAD) zoning arrangement under the U.S.-Canada Regulatory Cooperation Council. The arrangement lays out the basic parameters by which the two countries intend to recognize each other's decisions to control highly contagious FAD outbreaks through zoning, that is, determining and specifying a particular area in a portion of the country wherein a quarantine should be established to control a contagious FAD outbreak. The arrangement is based on reciprocal evaluations of veterinary infrastructure and emergency response capacity which concluded that each country can effectively use zoning to control an FAD outbreak. This notice makes available for public comment a draft framework that provides guidance for the USDA's Animal and Plant Health Inspection Service (APHIS) and CFIA to implement and maintain the zoning arrangement.

The United States and Canada both have response plans for highly contagious FAD outbreaks in place that are based on internationally accepted zoning principles. The plans call for establishing an area of control that consists of a central infected zone surrounded by one or more additional zones. The infected zone is the focus of disease eradication efforts, while the entire area of control is subject to surveillance for the disease agent and movement restrictions on animals and other commodities that could transmit the agent. The affected country may choose to modify or redefine the boundaries of an area of control during the course of an outbreak following procedures outlined in the draft framework.

The territory outside of an area of control is considered free of the disease. The claim to freedom is largely substantiated by demonstrating, through epidemiological investigation, movement tracing, and surveillance that the outbreak is contained within the area of control. The affected country may also choose to increase active or passive surveillance for the disease agent in the disease-free zone.

Under the draft framework, each country would notify the other of a confirmed FAD detection in domestic livestock within its territory while in the process of establishing an area of control. The unaffected (partner) country may initially restrict the importation of commodities that could transmit the disease from the affected country. The extent of the restrictions would depend on the disease, the magnitude of the outbreak, and other epidemiological factors.

The affected country would apply to the partner country for recognition of an established area of control, following procedures outlined in the draft framework. Once this recognition occurs, trade between disease-free zones could resume as normal, with few restrictions. The partner country may impose additional import restrictions if the disease is detected outside of an area of control during the response period.

The draft framework outlines procedures for a representative of the partner country to embed in and monitor the progress of the outbreak response. It also contains contingencies to address the rare instances when a widespread, multi-focal, or rapidly progressing outbreak may temporarily overwhelm the resources of the affected country and negatively impact its ability to contain the disease agent through zoning.

The draft framework further establishes a Federal-level governance structure designed to preserve the concept and intent of the zoning arrangement and promote the engagement and active participation of stakeholders in its implementation. It also outlines a strategy for APHIS and CFIA to work with other Federal, State, provincial, and non-governmental stakeholders to develop the means necessary to facilitate zoning recognition during an outbreak and minimize cross-border trade disruptions.

The draft framework may be viewed on the Regulations.gov Web site or in our reading room (see ADDRESSES above for a link to Regulations.gov and information on the location and hours of the reading room). You may request paper copies of the document by calling or writing to the person listed under FOR FURTHER INFORMATION CONTACT. Please refer to the title of this document when requesting copies.

APHIS will consider all comments we receive on the FAD zoning arrangement draft framework. Comments on the framework that address disease risk, import restrictions, establishment of areas of control, operational procedures, and communications with affected stakeholders would be particularly useful as we continue to develop the framework.

Done in Washington, DC, this 7th day of May 2014.
Kevin Shea,
Administrator, Animal and Plant Health Inspection Service.

[FR Doc. 2014-10998 Filed 5-12-14; 8:45 am]

BILLING CODE 3410-34-P